DEPARTMENT OF LABOR

Employment and Training Administration

Notice of Availability of Funds and Funding Opportunity Announcement for: Pathways to Justice Careers for Youth

AGENCY: Employment and Training Administration, Labor.

ACTION: Notice of Funding Opportunity Announcement (FOA).

Funding Opportunity Number: FOA-ETA-16-09.

SUMMARY: The Employment and Training Administration (ETA), U.S. Department of Labor, announces the availability of approximately $5,000,000 in grant funds authorized by the Workforce Innovation and Opportunity Act (WIOA) Section 169 for the Pathways to Justice Careers (PJC) program designed to support access and entry into career pathways for at-risk and court-involved youth ages 16-21. This program supports at-risk and court-involved youth that are still in school (“eligible youth”) by providing: (1) Exposure to the world of work in the career fields of justice and emergency services, (2) mentoring to encourage participants to complete a high school diploma or equivalency, and (3) supportive services that engage participants and deter them from engaging or re-engaging with the criminal justice system.

The Department plans to award approximately 5 grants of up to $1,000,000 each. These grants will combine case management, mentoring, career exploration, and exposure to the world of work models in the field of justice and emergency services for in-school youth ages 16 to 21, that are eligible to graduate within 2 years and are at risk of dropping out of school or at risk of entanglement in the criminal justice system, or both; the eligible youth must be enrolled in a public secondary school or alternative secondary school. This grant provides these in-school youth the opportunity to work with and be mentored by professionals currently working in justice and emergency services careers.

The complete FOA and any subsequent FOA amendments in connection with this funding opportunity are described in further detail on ETA's Web site at https://www.doleta.gov/grants/find_grants.cfm or on http://www.grants.gov. The Web sites provide application information, eligibility requirements, review and selection procedures, and other program requirements governing this funding opportunity.

DATES: The closing date for receipt of applications under this announcement is May 9, 2016. Applications must be received no later than 4:00:00 p.m. Eastern Time.

FOR FURTHER INFORMATION CONTACT: Denise Roach, 200 Constitution Avenue NW., Room N-4716, Washington, DC 20210; Telephone: 202-693-3820.

Signed April 12, 2016 in Washington, DC
Eric D. Luetkenhaus,
Grant Officer, Employment and Training Administration.

[FR Doc. 2016-08745 Filed 4-14-16; 8:45 am]

BILLING CODE 4510-FN-P